DEPARTMENT OF JUSTICE

[OMB Number 1122-2NEW]

Agency Information Collection Activities; Proposed eCollection eComments Requested; New Collection; Semi-Annual Performance Reporting Form for the Demonstration Program on Trauma-Informed, Victim-Centered Training for Law Enforcement on Domestic Violence, Dating Violence, Sexual Assault, and Stalking (Abby Honold Program)

AGENCY: Office on Violence Against Women, Department of Justice.

ACTION: 60-Day notice.

SUMMARY: The Office on Violence Against Women, Department of Justice, will be submitting the following information collection request to the Office of Management and Budget for review and approval in accordance with the Paperwork Reduction Act of 1995.

DATES: Comments are encouraged and will be accepted for 60 days until January 20, 2026.

FOR FURTHER INFORMATION CONTACT: If you have additional comments especially on the estimated public burden or associated response time, suggestions, or need a copy of the proposed information collection instrument with instructions or additional information, please contact Tiffany Watson, Office on Violence Against Women, at 202-307-6026 or Tiffany.Watson@usdoj.gov.

SUPPLEMENTARY INFORMATION: Written comments and suggestions from the public and affected agencies concerning the proposed collection of information are encouraged. Your comments should address one or more of the following four points:

—Evaluate whether the proposed collection of information is necessary for the proper performance of the functions of the Office on Violence Against Women, including whether the information will have practical utility;

—Evaluate the accuracy of the agency's estimate of the burden of the proposed collection of information, including the validity of the methodology and assumptions used;

—Evaluate whether and if so, how the quality, utility, and clarity of the information to be collected can be enhanced; and

—Minimize the burden of the collection of information on those who are to respond, including through the use of appropriate automated, electronic, mechanical, or other technological collection techniques or other forms of information technology, e.g., permitting electronic submission of responses.

Abstract: The Office on Violence Against Women (OVW) administers the Demonstration Program on Trauma-Informed, Victim-Centered Training for Law Enforcement on Domestic Violence, Dating Violence, Sexual Assault, and Stalking (Abby Honold Program), which supports efforts to improve law enforcement's response to allegations of domestic violence, dating violence, sexual assault, and stalking from the time of a victim's initial report throughout the entire investigation, and to promote the efforts of law enforcement in improving the response to these crimes. The Abby Honold Program awards grants to law enforcement agencies to train officers to conduct trauma informed and victim-centered investigations, with the goal of incorporating trauma-informed techniques designed to prevent re-traumatization of the victim and to increase communication between victims and law enforcement as well as stakeholders in a coordinated community response. This program's purpose is also to evaluate the effectiveness of the training. Under this program, the eligible entities are State, territorial, local, and/or Tribal law enforcement agencies that investigate crimes involving sexual assault. OVW issued awards under this new grant program for the first time in Fiscal Year 2024, and OVW will use data from the proposed information collection to monitor grant-funded activities, qualitatively assess those activities and report to Congress on the effectiveness of grant-funded activities. Note that in Fiscal Year 2025, the Abby Honold Program only supported projects addressing responses to allegations of sexual assault.

Overview of This Information Collection

1. Type of Information Collection: New collection.

2. Title of the Form/Collection: Semi-annual Performance Reporting Form for the Demonstration Program on Trauma-Informed, Victim-Centered Training for Law Enforcement on Domestic Violence, Dating Violence, Sexual Assault, and Stalking (Abby Honold Program).

3. Agency form number, if any, and the applicable component of the Department of Justice sponsoring the collection: Form Number: 1122-XXXX. U.S. Department of Justice, Office on Violence Against Women.

4. Affected public who will be asked or required to respond: Grantees from the Abby Honold Program, which include: State, territorial, local, and/or Tribal law enforcement agencies that investigate crimes involving sexual assault.

5. An estimate of the total number of respondents and the amount of time estimated for an average respondent to respond/reply: It is estimated that it will take the approximately 6 respondents, who are Abby Honold Program grantees, approximately one hour to complete a performance reporting form that is specific to the activities for which they receive funding. In addition, a grantee will only be required to complete the sections of the form that pertain to those specific activities that are supported by the Abby Honold Program funding and permissible under the authorizing legislation.

6. An estimate of the total public burden (in hours) associated with the collection: The total hour burden to complete the data collection form is 12 hours, that is 6 grantees completing a form twice a year with an estimated completion time for the form being one hour.

7. An estimate of the total annual cost burden associated with the collection, if applicable: The annualized costs to the Federal Government resulting from the OVW staff review of the progress reports submitted by grantees are estimated to be $696.00.

8. Total Burden Hours:

Activity | Estimated number of respondents | Frequency | Total annual responses (times) | Time per response (hour) | Total annual burden (hours)
Performance Reporting Form | 6 | Semi-annually | 2 | 1 | 12
Total |  |  |  |  | 12

If additional information is required contact: Darwin Arceo, Department Clearance Officer, United States Department of Justice, Justice Management Division, Enterprise Portfolio Management, Two Constitution Square, 145 N Street NE, 4W-218, Washington, DC.

Dated: November 19, 2025.
Darwin Arceo,
Department Clearance Officer for PRA, U.S. Department of Justice.

[FR Doc. 2025-20587 Filed 11-20-25; 8:45 am]

BILLING CODE 4410-FX-P